DEPARTMENT OF HEALTH AND HUMAN SERVICES

Food and Drug Administration

[Docket Nos. FDA-2013-N-1119; FDA-2010-N-0622; FDA-2011-N-0019; FDA-2010-N-0594; FDA-2011-N-0016; FDA-2009-N-0501; FDA-2014-N-0222; FDA-2017-D-0040; and FDA-2016-N-3585]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Food Canning Establishment Registration, Process Filing, and Recordkeeping for Acidified and Thermally Processed Low-Acid Foods | 0910-0037 | 10/31/2020
Color Additive Certification Requests and Recordkeeping | 0910-0216 | 10/31/2020
Customer/Partner Service Surveys | 0910-0360 | 10/31/2020
Focus Groups as Used by the Food and Drug Administration | 0910-0497 | 10/31/2020
Recordkeeping and Records Access Requirements for Food Facilities | 0910-0560 | 10/31/2020
Reporting and Recordkeeping Requirements for Reportable Food | 0910-0643 | 10/31/2020
Guidance for Industry on User Fee Waivers, Reductions, and Refunds for Drug and Biological Products | 0910-0693 | 10/31/2020
Draft Guidance for Industry; How to Prepare a Pre-Request for Designation (Pre-RFD) | 0910-0845 | 10/31/2020
Character-Space-Limited Online Prescription Drug Communications | 0910-0846 | 10/31/2020

Dated: February 21, 2018.
Leslie Kux,
Associate Commissioner for Policy.

[FR Doc. 2018-03849 Filed 2-23-18; 8:45 am]

BILLING CODE 4164-01-P